ENVIRONMENTAL PROTECTION AGENCY

[FRL-9233-2]

Notice of Public Hearing and Extension of Public Comment Period of Draft National Pollutant Discharge Elimination System (NPDES) General Permits for Small Municipal Separate Storm Sewer Systems (MS4)

AGENCY: Environmental Protection Agency (EPA).

ACTION: Notice of Public Hearing and Extension of Public Comment Period of Draft NPDES General Permits.

SUMMARY: The Director of the Office of Ecosystem Protection, Environmental Protection Agency—Region 1 (EPA), issued a Notice of Availability of Draft NPDES general permits for discharges from small MS4s to certain waters of the Commonwealth of Massachusetts on November 4, 2010. The draft general permits are the Draft Small MS4 General Permits for Massachusetts Interstate, Merrimack, and South Coastal Watersheds. These three general permits are for the discharge of stormwater from Small MS4s to the waters in these watersheds. The November 4, 2010 notice included information on a public hearing. The notice did not meet the time frames required by 40 CFR 124.10. Therefore, EPA has rescheduled the hearing and extended the comment permit of the draft permits. Throughout this documents the terms “this permit” and “the permit” will refer to all three general permits.

Information on the draft permits, appendices and fact sheet is available at: http://www.epa.gov/ne/npdes/stormwater/mimsc_sms4.html.

DATES: The public comment period is from the November 4, 2010 to January 21, 2011. Interested persons may submit comments on the draft general permit as part of the administrative record to the EPA—Region 1, at the address given below, no later than midnight January 21, 2011. The general permit shall be effective on the date specified in the Federal Register publication of the Notice of Availability of the final general permit. The final general permit will expire five years from the effective date.

ADDRESSES: Submit comments by one of the following methods:

• E-mail: Renahan.Kate@epa.gov.

• Mail: Kate Renahan, U.S. EPA—Region 1, Office of the Regional Administrator, 5 Post Office Square—Suite 100, Mail Code—ORA01-1, Boston, MA 02109-3912.

No facsimiles (faxes) will be accepted.

The draft permit is based on an administrative record available for public review at EPA—Region 1, Office of Ecosystem Protection, 5 Post Office Square—Suite 100, Boston, Massachusetts 02109-3912. A reasonable fee may be charged for copying requests. The November 4, 2010 Notice of Availability sets forth principal facts and the significant factual, legal, and policy questions considered in the development of the draft permit.

Public Meeting Information: EPA—Region 1 will hold two public meetings to provide information about the draft general permit and its requirements. Each public meeting will include a brief presentation on the draft general permit and a brief question and answer session. Written, but not oral, comments for the official draft permit record will be accepted at the public meetings. Public meetings will be held at the following times and locations:

Thursday—December 2, 2010

Lakeville Public Library (Large Meeting Room), 4 Precinct Street, Lakeville, MA 02347, 10 a.m.

Wednesday—January 12, 2011

Leominster Public Library Community Room, 30 West Street, Leominster, MA 01453, 10 a.m.—11 a.m.

The dates and times of any additional public meetings will be posted on EPA-Region 1's Web site at: http://www.epa.gov/ne/npdes/stormwater/mimsc_sms4.html.

Public Hearing Information: Following the January 12, 2011 public meeting, a public hearing will be conducted in accordance with 40 CFR 124.12 and will provide interested parties with the opportunity to provide written and/or oral comments for the official draft permit record. The public hearing will be held at the following time and location:

Wednesday—January 12, 2011

Leominster Public Library Community Room, 30 West Street, Leominster, MA 01453, 11:30 a.m.—2 p.m.

FOR FURTHER INFORMATION CONTACT: Additional information concerning the draft permit may be obtained between the hours of 9 a.m. and 5 p.m. Monday through Friday excluding holidays from: Kate Renahan, Office of the Regional Administrator, Environmental Protection Agency, 5 Post Office Square—Suite 100, Mail Code: ORA01-1, Boston, MA 02109-3912; telephone: 617-918-1491; e-mail: Renahan.Kate@epa.gov.

SUPPLEMENTARY INFORMATION: Information about the proposed permits including background of the permit and summary of permit conditions was previously published on the November 4, 2010 (75 FR 67960-67962).

Dated: November 19, 2010.
Ira W. Leighton,
Acting Regional Administrator, Region 1.

[FR Doc. 2010-29978 Filed 11-26-10; 8:45 am]

BILLING CODE 6560-50-P